ENVIRONMENTAL PROTECTION AGENCY

[ER-FRL-6653-8]

Environmental Impact Statements; Notice of Availability

Responsible Agency: Office of Federal Activities, General Information (202) 564-7167 or http://www.epa.gov/compliance/nepa/.

Weekly Receipt of Environmental Impact Statements

Filed July 12, 2004 Through July 16, 2004

Pursuant to 40 CFR 1506.9.

EIS No. 040328, Final EIS, COE, LA, Bayou Sorrel Lock Replacement (formerly IWW Locks) Feasibility Study to Relieve Navigation Delays and/or Provide Adequate Flood Protection, Atchafalaya Basin Floodway, Iberville Parish, LA, Wait Period Ends: August 23, 2004, Contact: Richard E. Boe (504) 862-1505.

EIS No. 040329, Draft EIS, AFS, OR, Tamarack Quarry Expansion Project, Secure a Long-Term, Economical Source of Rock Material to Use for Highway and Road Maintenance, Mt. Hood National Forest, Clackamas County, OR, Comment Period Ends: September 7, 2004, Contact: Mike Redmond (503) 668-1776. This document is available on the Internet at: http://www.fs.fed.us/r6/mthood.

EIS No. 040330, Final EIS, AFS, CA, Larson Reforestation and Fuel Reduction Project, Implementation, Stanislaus National Forest, Groveland Ranger District, Mariposa and Tuolumne Counties, CA, Wait Period Ends: August 23, 2004, Contact: John R. Swanson Ext 550 (209) 962-7825.

EIS No. 040331, Final EIS, FHW, MD, MD-210 (Indian Head Highway) Multi-Modal Study, MD-210 Improvements between I-95/I-495 (Capitol Beltway) and MD-228 Funding and U.S. COE Section 404 Permit Issuance, Prince George's County, MD, Wait Period Ends: August 23, 2004, Contact: Mary Huie (703) 329-3712.

EIS No. 040332, Final EIS, FHW, IL, Macomb Area Study, Construction from U.S. Route 67 (FAP-310) and Illinois Route 336 (FAP-315), City of Macomb, McDonough County, IL, Wait Period Ends: August 23, 2004, Contact: Norman R. Stoner (217) 492-4640.

EIS No. 040333, Final EIS, NAS, FL, International Space Research Park (ISRP) to Bring New Research and Development Uses to the John F. Kennedy Center, Brevard County, FL, Wait Period Ends: August 23, 2004, Contact: Mario Busacca (321) 867-8456.

EIS No. 040334, Draft EIS, SFW, WA, ID, OR, CA, Caspian Tern (sterna caspia) Management to Reduce Predation of Juvenile Salmonids in the Columbia River Esturary, To Comply with the 2002 Settlement Agreement, Endangered Species Act (ESA), Columbia River, WA, OR, ID and CA, Comment Period Ends: September 22, 2004, Contact: Nanette Seto (503) 231-6164. This document is available on the Internet at: http://migratorybirds.pacific.fws.gov/CATE_DEIS.htm.

EIS No. 040335, Final EIS, COE, AZ, EL Rio Antiguo Feasibility Study, Ecosystem Restoration along the Rillito River, Pima County, AZ, Wait Period Ends: August 23, 2004, Contact: John Moeur (213) 452-4219.

EIS No. 040336, Draft EIS, AFS, MT, Frenchtown Face Ecosystem Restoration Project, Maintain or Improve Forest Health and Reduce the Risk of Damage Insects and Disease, Lolo National Forest, Ninemile Ranger District, Missoula County, MT, Comment Period Ends: September 7, 2004, Contact: Brian Riggers (406) 329-3793. This document is available on the Internet at: http//www.fs.fed.us/rl/lolo/projects.

EIS No. 040337, Final EIS, AFS, UT, State of Utah School and Institutional Trust Lands Administration (SITLA) Access Route on East Mountain, National Forest System Lands Administered by Mantila Sal National Forest, Ferron/Price Ranger District, Emery Counties, UT, Wait Period Ends: August 23, 2004, Contact: Leland Matheson (435) 637-2817.

EIS No. 040338, Draft EIS, BLM, UT, Price Field Office Resource Management Plan, Implementation, Proposed Areas of Critical Environmental Concerns Suitable Wild and Scenic River Segments and Special Recreation Management Area, Carbon and Emery Counties, UT, Comment Period Ends: October 15, 2004, Contact: Floyd Johnson (435) 636-3600. This document is available on the Internet at: http://www.pricermp.com/drafteis.asp.

Dated: July 20, 2004.
Ken Mittelholtz,
Environmental Protection Agency, Office of Federal Activities.

[FR Doc. 04-16828 Filed 7-22-04; 8:45 am]

BILLING CODE 6560-50-U